COMMODITY FUTURES TRADING COMMISSION

Sunshine Act Meeting

Agency Holding the Meeting: Commodity Futures Trading Commission.

Time and Date: 10:30 a.m., Wednesday, February 13, 2002.

Place: 1155 21st St., NW., Washington, DC, 9th Floor Conference Room.

Matters to be Considered: Rule Enforcement Review.

Contact Person for More Information: Jean A. Webb, 202-418-5100.

Jean A. Webb,
Secretary of the Commission.

[FR Doc. 02-2833 Filed 2-1-02; 11:56 am]

BILLING CODE 6351-01